FEDERAL TRADE COMMISSION

16 CFR Part 310

RIN 3084-AA98

Telemarketing Sales Rule Fees

AGENCY: Federal Trade Commission.

ACTION: Policy statement.

SUMMARY: The Federal Trade Commission (the “Commission” or “FTC”) is giving notice that there will be no increase in the fees charged to entities accessing the National Do Not Call Registry (the “Registry”) for fiscal year 2011.

ADDRESSES: Requests for copies of this document should be sent to: Public Reference Branch, Federal Trade Commission, Room 130, 600 Pennsylvania Avenue, N.W., Washington, DC 20580. Copies of this document are also available on the Internet at the Commission’s website: (http://www.ftc.gov).

FOR FURTHER INFORMATION CONTACT: Ami Joy Rop, (202) 326-2648, Bureau of Consumer Protection, Federal Trade Commission, 600 Pennsylvania Avenue, NW, Rm H-244, Washington, DC 20580.

SUPPLEMENTARY INFORMATION: The Do-Not-Call Registry Fee Extension Act of 2007 (Pub. L. 110-188, 122 Stat. 635) (“Act”), mandates a specific fee structure to use in determining the fees for accessing the Registry. According to the Act, for each year beginning after fiscal year 2009, the dollar amounts charged shall be increased by an amount equal to the amounts specified in the Act, whichever fee is applicable, multiplied by the percentage (if any) by which the average of the monthly consumer price index (for all urban consumers published by the Department of Labor) (“CPI”) for the most recently ended 12-month period ending on June 30 exceeds the CPI for the 12-month period ending June 30, 2008. The Act also states that any increase shall be rounded to the nearest dollar and that there shall be no increase in the dollar amount if the change in the CPI is less than 1 percent. We measure this change in CPI from the time of the previous increase in fees. The adjustments to the applicable fees, if any, are to be published in the FEDERAL REGISTER no later than September 1 of each year.

Last year, for fiscal year 2010, we calculated an increase in the CPI of 1.4 percent, and adjusted the fees accordingly (74 Fed. Reg. 42771 (August 25, 2009)). The average value of the CPI for July 1, 2008 to June 30, 2009 was 214.625; the average value for July 1, 2009 to June 30, 2010 was 216.735, an increase of 0.97 percent. As this falls below the statute’s 1 percent required change in the CPI, there shall be no increase in the fees for access. Therefore, the fees will remain at the current level of $55 per area code, with a maximum fee of $15,058. The fee for access to each area code during the second six months of an entity’s annual subscription period remains at $27. Users will still be able to access the first five area codes free of charge, and organizations that are not required to comply with the Registry will still be able to access it if they choose to while remaining exempt from fees.

By direction of the Commission.

Richard C. Donohue
Acting Secretary.

[FR Doc. 2010-22197 Filed 9-9-10: 8:45 am]

BILLING CODE 6750-01-S